DEPARTMENT OF HEALTH AND HUMAN SERVICES

Indian Health Service

Request for Public Comment: 60-Day Proposed Information Collection: Indian Health Service Background Investigations of Individuals in Positions Involving Regular Contact With or Control Over Indian Children, OPM-306

Correction

In notice document E8-22359 beginning on page 55122 in the issue of Wednesday, September 24, 2008, make the following corrections:

1. On page 55122, in the third column, in the second full paragraph, in the 12th line “IRS” should read “IHS”.

2. On page 55123, in the first column, in the third full paragraph, seven lines from the bottom “IRS” should read “IHS”.

[FR Doc. Z8-22359 Filed 10-6-08; 8:45 am]

BILLING CODE 1505-01-D